DEPARTMENT OF ENERGY

Federal Energy Regulatory Commission

Combined Notice of Filings #1

June 29, 2006.

Take notice that the Commission received the following electric corporate filings:

Docket Numbers: EC06-135-000; ER01-2398-013.

Applicants: SVMF4, LLC; Liberty Electric Power, LLC; Merrill Lynch Credit Products, LLC.

Description: Liberty Electric Power LLC, et al. submits an application for authorization for disposition of jurisdictional facilities, notice of change in status, and request for expedited action.

Filed Date: 6/22/2006.

Accession Number: 20060626-0168.

Comment Date: 5 p.m. eastern time on Thursday, July 13, 2006.

Take notice that the Commission received the following electric rate filings:

Docket Numbers: ER97-870-015.

Applicants: Sunoco Power Marketing LLC.

Description: Sunoco Power Marketing, LLC submits amendments to its market-based rate wholesale power sales tariff.

Filed Date: 6/26/2006.

Accession Number: 20060627-0229.

Comment Date: 5 p.m. eastern time on Monday, July 17, 2006.

Docket Numbers: ER01-666-008; ER91-569-001; ER01-1675-006; ER01-1804-007; ER02-862-008.

Applicants: Entergy Services, Inc.

Description: Entergy Services, Inc on behalf of Entergy Operating Companies, et al., submits revised tariffs, Second Revised Sheet 2 et al. to FERC Electric Tariff, Original Volume 1.

Filed Date: 6/26/2006.

Accession Number: 20060628-0063.

Comment Date: 5 p.m. eastern time on Monday, July 17, 2006.

Docket Numbers: ER01-2543-003; ER01-2544-003; ER01-2545-003; ER01-2546-003; ER01-2547-003; ER03-1182-003; ER04-698-003; ER99-2984-007; ER05-524-002.

Applicants: CalPeak Power—Panoche LLC; CalPeak Power-Vaca Dixon LLC; CalPeak Power—El Cajon LLC; CalPeak Power—Enterprise LLC; Tyr Energy, LLC; Tor Power, LLC; Green Country, LLC; Lincoln Generating Facility, LLC.

Description: The Calpeak Entities et al. submits notice of non-material change in status in compliance with the reporting requirements adopted by FERC in Order 652.

Filed Date: 6/26/2006.

Accession Number: 20060627-0226.

Comment Date: 5 p.m. eastern time on Monday, July 17, 2006.

Docket Numbers: ER04-445-016; ER04-435-002; ER04-441-012; ER04-443-013.

Applicants: California Independent System Operator Corporation: Pacific Gas and Electric Company; San Diego Gas & Electric Company; Southern California Edison Company.

Description: California Independent System Operator Corp, et al. submits revisions to its pro forma Standard Large Generator Interconnection Agreement pursuant to FERC's 5/24/06 Order.

Filed Date: 6/23/2006.

Accession Number: 20060627-0054.

Comment Date: 5 p.m. eastern time on Friday, July 14, 2006.

Docket Numbers: ER04-445-017.

Applicants: California Independent System Operator Corporation.

Description: California Independent System Operator Corp submits conforming long-term Standard Large Generator Interconnection Procedures pro forma Agreement for Allocation of Responsibilities in compliance w/FERC's 5/24/06 Order.

Filed Date: 6/23/2006.

Accession Number: 20060627-0053.

Comment Date: 5 p.m. eastern time on Friday, July 14, 2006.

Docket Numbers: ER05-1181-004.

Applicants: PJM Interconnection, LLC.

Description: PJM Interconnection, LLC submits corrected Third Revised Sheet 250 & First Revised Third Revised Sheet 250, pursuant to Commission's 5/26/06 Order.

Filed Date: 6/26/2006.

Accession Number: 20060627-0228.

Comment Date: 5 p.m. eastern time on Monday, July 17, 2006.

Docket Numbers: ER06-433-003.

Applicants: Midwest Independent Transmission System Operator, Inc.

Description: Midwest Independent Transmission System Operator, Inc. submits the Large Generator Interconnection Agreement with the Twin Creeks Wind LLC and American Transmission Company, LLC in compliance with FERC's 5/26/06 Order.

Filed Date: 6/26/2006.

Accession Number: 20060627-0224.

Comment Date: 5 p.m. eastern time on Monday, July 17, 2006.

Docket Numbers: ER06-787-001.

Applicants: Idaho Power Company.

Description: Idaho Power Co submits revisions to its Period I Statements and Open Access Transmission Tariff pursuant to FERC's order issued 5/31/06.

Filed Date: 6/23/2006.

Accession Number: 20060627-0056.

Comment Date: 5 p.m. eastern time on Friday, July 14, 2006.

Docket Numbers: ER06-819-001.

Applicants: Consolidated Edison Energy of Massachusetts, Inc.

Description: Consolidated Edison Energy Massachusetts, Inc. submits its response with supporting materials to the 5/26/06 deficiency letter re Cost-of-Service Reliability Agreement and on 6/28/06 submits an omitted page of this filing.

Filed Date: 6/26/2006 and 6/26/2006.

Accession Number: 20060627-0244.

Comment Date: 5 p.m. eastern time on Monday, July 17, 2006.

Docket Numbers: ER06-819-002.

Applicants: ISO New England, Inc.

Description: ISO New England, Inc submits its response to FERC's 5/26/06 letter which requested additional information.

Filed Date: 6/26/2006.

Accession Number: 20060627-0137.

Comment Date: 5 p.m. eastern time on Monday, July 17, 2006.

Docket Numbers: ER06-864-001; ER00-2885-009; ER01-2765-008; ER02-1582-007; ER02-1785-004; ER02-2102-008.

Applicants: Bear Energy LP; Cedar Brakes I, L.L.C.; Cedar Brakes II, L.L.C.; Mohawk River Funding IV, L.L.C.; Thermo Cogeneration Partnership L.P.; Utility Contract Funding, L.L.C.

Description: Bear Energy submits an errata to the June 1, 2006 Notice of Non-Material Change in Status to include its affiliates.

Filed Date: 6/23/2006.

Accession Number: 20060628-0018.

Comment Date: 5 p.m. eastern time on Friday, July 14, 2006.

Docket Numbers: ER06-935-001; ER06-936-001; ER06-937-001; ER06-938-001; ER06-940-001; ER06-953-001.

Applicants: The Cincinnati Gas and Electric Company.

Description: The Cincinnati Gas & Electric Co dba Duke Energy Ohio submits revised notices of cancellation of FERC Rate Schedule No. 1 to reflect effective dates to be 6/5/06.

Filed Date: 6/22/2006.

Accession Number: 20060627-0227.

Comment Date: 5 p.m. eastern time on Thursday, July 6, 2006.

Docket Numbers: ER06-994-002.

Applicants: Western Kentucky Energy Corp.

Description: Western Kentucky Energy Corp submits an amendment to its notice of succession filed on 5/15/06.

Filed Date: 6/26/2006.

Accession Number: 20060627-0276.

Comment Date: 5 p.m. eastern time on Friday, July 7, 2006.

Docket Numbers: ER06-1018-001.

Applicants: Power Hedging Dynamics, LLC.

Description: Petition for acceptance of initial rate schedule, waivers and blanket authority of Power Hedging Dynamics, LLC under ER06-1018.

Filed Date: 6/16/2006.

Accession Number: 20060620-0312.

Comment Date: 5 p.m. eastern time on Wednesday, July 5, 2006.

Docket Numbers: ER06-1119-001.

Applicants: San Diego Gas & Electric Company.

Description: San Diego Gas & Electric Co submits an errata to the First Revised Sheet 158 filed on 6/8/06 to revise Table D-0 of Schedule D.

Filed Date: 6/23/2006.

Accession Number: 20060627-0058.

Comment Date: 5 p.m. eastern time on Friday, July 14, 2006.

Docket Numbers: ER06-1121-001.

Applicants: American Electric Power Service Corporation.

Description: American Electric Power Service Corp on behalf of Ohio Power Co submits a revised Notice of Termination of Interconnection and Operation Agreement with Lawrence Energy Center, LLC.

Filed Date: 6/23/2006.

Accession Number: 20060627-0057.

Comment Date: 5 p.m. eastern time on Friday, July 14, 2006.

Docket Numbers: ER06-1123-001.

Applicants: American Electric Power Service Corporation.

Description: American Electric Power Service Corp on behalf of Ohio Power Co submits a revised Notice of Termination of Interconnection and Operating Agreement with Lawrence Energy Center, LLC.

Filed Date: 6/23/2006.

Accession Number: 20060627-0055.

Comment Date: 5 p.m. eastern time on Friday, July 14, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-10608 Filed 7-6-06; 8:45 am]

BILLING CODE 6717-01-P